DEPARTMENT OF DEFENSE

Department of the Army

Army Science Board; Notice of Opening Meeting

In accordance with section 10(a)(2) of the Federal Advisory Committee Act (Pub. L. 92-463), announcement is made of the following Committee Meeting:

Name of Committee: Army Science Board (ASB).

Date(s) of Meeting: 25 March 2002.

Time(s) of Meeting: 0800-1700.

Place: Institute for Defense Analysis.

1. Agenda: The Human Resources Panel of the Army Board FY02 Summer Study on “Affordability of the Objective Force” is holding a meeting on 25 March 2002. The meeting will be held at IDA, 4850 Mark Center Drive, Alexandria, VA 22311. The meeting will begin at 0800hrs and will end at approximately 1700hrs. For further information, please contact Dale Brazale—703-845-6800 or e-mail DTIINT@AOL.COM.

Wayne Joyner,
Program Support Specialist, Army Science Board.

[FR Doc. 02-6344 Filed 3-15-02; 8:45 am]

BILLING CODE 3710-08-M